DEPARTMENT OF AGRICULTURE

Office of the Secretary

[Docket No. USDA-2022-0021]

Notice of Request for Extension of a Currently Approved Information Collection

AGENCY: Office of Safety, Security and Protection, Department of Agriculture.

ACTION: Notice and request for comments.

SUMMARY: In accordance with the Paperwork Reduction Act of 1995, this notice announces the Office of Safety, Security and Protection's (OSSP) intention to request an extension for and revision to a currently approved information collection for US Department of Agriculture (USDA) Request for USDA Identification (ID) Badge, the USDA Homeland Security Presidential Directive 12 (HSPD-12) program. HSPD-12 establishes a mandatory, Government-wide standard for secure and reliable forms of identification (credentials) issued by the Federal Government to its Federal Employees, Non-Federal employees, and contractors. The Office of Management and Budget (OMB) mandated that these credentials be issued to all Federal Government employees, contractors, and other applicable individuals who require long-term access to federally controlled facilities and/or information systems. The HSPD-12 compliant program is jointly owned and administered by the Office of the Chief Information Officer (OCIO) and OSSP.

ADDRESSES: Office of Safety, Security and Protection invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Office of Safety, Security and Protection, 1400 Independence Ave. SW, Room 1434, Washington, DC 20250-3700.

• Hand- or courier-delivered submittals: Deliver to 1400 Independence Ave. SW, Room 1434, Washington, DC 20250-3700.

Instructions: All items submitted by mail or electronic mail must include the Agency name, docket number, and Office of Safety, Security and Protection. Comments received in response to this docket will be made available for public inspection and posted without change, including any personal information, to http://www.regulations.gov.

Docket: For access to background documents or comments received, go to the Office of Safety, Security and Protection, 1400 Independence Ave. SW, Room 1434, Washington, DC 20250-3700 between 8:00 a.m. and 3:00 p.m., Monday through Friday.

DATES: Comments on this notice must be received by April 10, 2023 to be assured of consideration.

FOR FURTHER INFORMATION CONTACT: Contact Sam Willis, Director, Facility Protection Division, Office of Safety, Security and Protection U.S. Department of Agriculture, 1400 Independence Ave. SW, Room 1434, Washington, DC 20250, 202-378-5830.

SUPPLEMENTARY INFORMATION:

Title: Request for USDA Identification (ID) Badge.

OMB Number: 0505-0022.

Expiration Date of Approval: May 31, 2023.

Type of Request: Extension and revision of a currently approved information collection.

Abstract: The AD-1197 was initially created to support the HSPD-12 information collection as required for establishing the applicant's identity for PIV credential issuance. The information requested must be provided by Federal employees, contractors and other applicable individuals when applying for a USDA credential (identification card). This information collection is necessary to comply with the requirements outlined in Homeland Security Presidential Directive (HSPD) 12, and Federal Information Processing Standard (FIPS) 201-3. USDA must implement an identity proofing, registration, and issuance process consistent with the requirements outlined in FIPS 201-3. This information collection form was required as part of USDA's identity proofing and registration process. After 10/27/06, form AD 1197 was eliminated from the HSPD-12 process with the USDA's participation in the in the GSA USAccess program, however the form continues to be utilized for the information collection and processing of USDA Site Badges (non-PIV). As USDA continues the HSPD-12 program, one estimate of burden has been calculated and one process description has been included.

Estimate of Burden: Public reporting burden for this collection of information is estimated to average 1.5 hours. The Burden is estimated based on the three prerequisites for ID issuance as well as the receipt of the ID Credential itself.

Respondents: New long-term contractors, affiliates, and employees must undergo the information collection process. Existing contractors/employees/affiliates must undergo the process to receive a Credential.

Estimated Number of Respondents: Estimated Annual Number of Respondents: 12,000.

Estimated Number of Responses per Respondent: Each respondent should complete one response.

Estimated Total One-Time Burden on Respondents: 18,000 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Sam Willis. All comments received will be available for public inspection during regular business hours at the same address.

All responses to this notice will be summarized and included in the request for OMB approval. All comments will become a matter of public record.

Chad Carroll,
Chief Security Director, Office of Safety, Security, and Protection.

[FR Doc. 2023-02659 Filed 2-7-23; 8:45 am]

BILLING CODE 3412-BA-P